DEPARTMENT OF TRANSPORTATION

Federal Aviation Administration

14 CFR Part 39

[Docket No. 98-NM-368-AD; Amendment 39-12110; AD 2001-03-06]

RIN 2120-AA64

Airworthiness Directives; Raytheon (Beech) Model MU-300, MU-300-10, 400, and 400A Series Airplanes

AGENCY: Federal Aviation Administration, DOT.

ACTION: Final rule.

SUMMARY: This amendment adopts a new airworthiness directive (AD), applicable to Raytheon (Beech) Model MU-300, MU-300-10, 400, and 400A series airplanes, that requires repetitive inspections of the bleed air supply tube assemblies for discrepancies; and replacement of the bleed air tube assembly with a new bleed air tube assembly, if necessary. In lieu of accomplishing the repetitive inspections, this AD also provides for a revision of the Airworthiness Limitations to incorporate, among other things, certain inspections and compliance times to detect discrepancies of the subject area; and corrective action, if necessary. This amendment is prompted by reports of broken wire braiding in the bellows assembly of the bleed air supply tube assembly due to premature failure from loading. The actions specified by this AD are intended to prevent the bleed air supply tube assembly from disconnecting and contacting other pneumatic or electrical systems of the airplane or expelling high temperature air on surrounding systems and structure. Such a condition could reduce the functional capabilities of the airplane or the ability of the flight crew to cope with adverse operating conditions.

DATES: Effective March 22, 2001.

ADDRESSES: The service information referenced in this AD may be obtained from Raytheon Aircraft Company, Manager, Service Engineering, Beechjet Premier Technical Support, P.O. Box 85, Wichita, Kansas 67201-0085. This information may be examined at the Federal Aviation Administration (FAA), Transport Airplane Directorate, Rules Docket, 1601 Lind Avenue, SW., Renton, Washington; or at the FAA, Wichita Aircraft Certification Office, 1801 Airport Road, Room 100, Mid-Continent Airport, Wichita, Kansas.

FOR FURTHER INFORMATION CONTACT: Paul C. DeVore, Aerospace Engineer, Systems and Propulsion Branch, ACE-116W, FAA, Wichita Aircraft Certification Office, 1801 Airport Road, Room 100, Mid-Continent Airport, Wichita, Kansas, 67209; telephone (316) 946-4142; fax (316) 946-4407.

SUPPLEMENTARY INFORMATION: A proposal to amend part 39 of the Federal Aviation Regulations (14 CFR part 39) to include an airworthiness directive (AD) that is applicable to all Raytheon (Beech) Model MU-300, MU-300-10, 400, and 400A series airplanes was published in the Federal Register on May 10, 2000 (65 FR 30031). That action proposed to require repetitive inspections of the bleed air supply tube assemblies for discrepancies; and replacement of the bleed air tube assembly with a new bleed air tube assembly, if necessary. That action also proposed to require that, in lieu of accomplishing the repetitive inspections, the Airworthiness Limitations Section (ALS) be revised to specify, among other things, certain inspections to detect discrepancies and compliance times for the subject area; and corrective action, if necessary.

Since the Issuance of the NPRM

The FAA has reviewed and approved Raytheon Aircraft Beechjet 400/400A Maintenance Manual, Airworthiness Limitations, Page 1, Section 4-00-00, Revision B26, dated August 27, 1999. The FAA also has reviewed and approved Raytheon Aircraft Beechjet 400/400A Maintenance Manual, Time-Limited Inspections, Pages 3 and 6, Section 4-00-02, and Pages 4 and 9, Section 4-00-04, Revision B26, dated August 27, 1999. The FAA has determined that Revision B26 contains no information that has been revised or added to since the issuance of Revision B23 regarding STARS Code 361031 (Bleed Air System). Since Revision B26 is the most current ALS revision, the FAA has cited Revision B26 in this final rule, as no required work has been added or changed from the requirements set forth in the proposed rule.

The FAA has reviewed and approved Raytheon Aircraft Diamond 1/1A MU-300 Maintenance Requirement Manual, Revision 9, dated February 26, 1999. The FAA has determined that Revision 9 contains no information that has been revised or added to since the issuance of Revision 8 regarding the Bleed Air System. Since Revision 9 is the most current ALS revision, the FAA has cited Revision 9 in this final rule, as no required work has been added or changed from the requirements set forth in the proposed rule.

Clarification of Paragraph (a) of the Final Rule

The FAA notes that the method of compliance in paragraph (a) of the proposal was inadvertently not included in the proposal. Therefore, the FAA has specified that those actions required by paragraph (a)(1) of this AD must be accomplished in accordance with the Airplane Maintainance Manual, Chapter 4, dated August 27, 1999. Paragraph (a)(1) of the final rule has been revised accordingly.

Comments to the NPRM

Interested persons have been afforded an opportunity to participate in the making of this amendment. Due consideration has been given to the comments received.

Request to Clarify the Compliance Time

One commenter requests that the compliance time specified in paragraph (b) of the proposal be clarified to state that the actions must be accomplished within 200 hours time-in-service.

The FAA concurs with the commenter that clarification is needed. Since paragraph (a) of the proposal clearly specifies a compliance time of 200 hours time-in-service, paragraph (b) of the the proposal has been redesignated as paragraph (a)(2) to clarify that the 200 hours time-in-service also applies to those requirements.

Request to Specify Incorporation of Airworthiness Limitations Section as Terminating Action

One commenter requests that the proposal clearly specify that incorporation of the revisions of the ALS specified in the proposal be designated as a terminating action “until such time as the operator elects to inspect the affected aircraft in accordance with paragraphs (a) or (d).”

The FAA does not concur. Accomplishment of the requirements of paragraph (a)(2) of this AD (incorporation of the ALS revisions) is simply considered to be one way of complying with the requirements of paragraph (a) of this AD. Incorporation of the ALS revisions relieves the operator from continually updating compliance with the inspection requirements of this AD, but does not “terminate” the requirement to perform the inspections that are now enforceable as part of the ALS. No change is necessary to the final rule.

Request to Clarify the Requirements of Paragraph (b)

The same commenter also requests that the proposal clarify that the ALS does not require any inspection until the aircraft accumulates 1,000 hours time-in-service. The commenter further requests that the proposal clearly reference the current 20-hour “inspection interval tolerance” provided for in the ALS.

The FAA acknowledges that the ALS does not require an inspection until the aircraft accumulates 1,000 hours time-in-service, and that the ALS provides for a 20-hour “inspection interval tolerance.” However, the requirements of paragraph (a)(2) of this AD merely require incorporating procedures specified in certain revisions of the ALS of the Instructions of Continued Airworthiness. The FAA does not consider it necessary to identify each of the procedures, provisions, or requirements that are included in those specific revisions of the ALS. Therefore, no change has been made to the final rule in this regard.

Conclusion

After careful review of the available data, including the comments noted above, the FAA has determined that air safety and the public interest require the adoption of the rule with the changes previously described. The FAA has determined that these changes will neither increase the economic burden on any operator nor increase the scope of the AD.

Cost Impact

There are approximately 530 airplanes of the affected design in the worldwide fleet. The FAA estimates that 452 airplanes of U.S. registry will be affected by this AD, that it will take approximately 1 work hour per airplane to accomplish either the inspection or the revision to the Airworthiness Limitations Section, and that the average labor rate is $60 per work hour. Based on these figures, the cost impact of the AD on U.S. operators is estimated to be $27,120, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Should an operator elect to accomplish the optional terminating action that would be provided by this AD action, it would take approximately 1 work hour to accomplish it, at an average labor rate of $60 per work hour. Based on these figures, the cost impact of the optional terminating action would be $60 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-03-06 Raytheon Aircraft Company (Formerly Beech): Amendment 39-12110. Docket 98-NM-368-AD.

Applicability: All Model MU-300, MU-300-10, 400, and 400A series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the bleed air supply tube assembly from disconnecting and contacting other pneumatic or electrical systems of the airplane or expelling high temperature air on surrounding systems and structure, which could result in reduced functional capabilities of the airplane or the ability of the flight crew to cope with adverse operating conditions; accomplish the following:

Inspection

(a) Within 200 hours time-in-service after the effective date of this AD, accomplish the actions specified in either paragraph (a)(1) or (a)(2) of this AD.

(1) Perform a general visual inspection of the bleed air supply tube assemblies for broken wire braiding on the bellows assemblies or for ruptured or leaking bellow assemblies. The bleed air supply tube assemblies are located within the aft fuselage and connect to mating ducting in the pylon area on the right and left side of the airplane. Repeat the inspection thereafter at intervals not to exceed 400 hours time-in-service. If any broken wire is detected or if any bellow assembly is ruptured or leaking, prior to further flight, replace the bleed air tube assembly with a new bleed air tube assembly, in accordance with the Airplane Maintenance Manual, Revision B26 of Chapter 4, dated August 27, 1999.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(2) Revise the Airworthiness Limitations Sections of the Instructions for Continued Airworthiness by incorporating the procedures specified in Chapter 4, “Airworthiness Limitations” of Raytheon Aircraft Beechjet 400/400A Maintenance Manual, Revision B26, dated August 27, 1999, for Model MU-300-10, 400, and 400A series airplanes; or Section MR-11-00, “Airworthiness Limitations” of Raytheon Aircraft Diamond 1/1A MU-300 Maintenance Requirement Manual, Revision 9, dated February 26, 1999 (for Model MU-300 airplanes); as applicable.

(b) Except as provided in paragraph (c) of this AD: After the action specified in paragraph (a)(2) of this AD has been accomplished, no alternative inspections or inspection intervals may be approved for the part specified in paragraph (a)(2) of this AD.

Alternative Methods of Compliance

(c) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 3: Information concerning the existence of approved alternative methods of compliance with this AD, if any, may be obtained from the Wichita ACO.

Special Flight Permits

(d) Special flight permits may be issued in accordance with sections 21.197 and 21.199 of the Federal Aviation Regulations (14 CFR 21.197 and 21.199) to operate the airplane to a location where the requirements of this AD can be accomplished.

Effective Date

(e) This amendment becomes effective on March 22, 2001.

Issued in Renton, Washington, on February 7, 2001.
Donald L. Riggin,
Acting Manager, Transport Airplane Directorate, Aircraft Certification Service.

[FR Doc. 01-3672 Filed 2-14-01; 8:45 am]

BILLING CODE 4910-13-U